DEPARTMENT OF AGRICULTURE

Forest Service

Proposed New Recreation Fee Sites

AGENCY: Forest Service, USDA.

ACTION: Notice.

SUMMARY: The Huron-Manistee National Forests are proposing to establish several new recreation fee sites. Proposed recreation fees collected at the proposed recreation fee sites would be used for operation, maintenance, and improvement of the sites. An analysis of nearby recreation fee sites with similar amenities shows the proposed recreation fees that would be charged at the proposed recreation fee sites are reasonable and typical of similar recreation fee sites in the area.

DATES: If approved, the proposed recreation fees would be implemented no earlier than six months following the publication of this notice in the Federal Register.

ADDRESSES: Huron-Manistee National Forests, Attention: Recreation Fees, 1755 South Mitchell Street, Cadillac, MI 49601.

FOR FURTHER INFORMATION CONTACT: Nick Edington, Recreation Program Manager, (218) 308-0580 or nicholas.edington@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, Chapter 30, the Forest Service will publish the proposed recreation fee sites and proposed recreation fees in local newspapers and other local publications for public comment. Most of the proposed recreation fee revenues would be spent where they are collected to enhance the visitor experience at the proposed recreation fee sites.

An expanded amenity recreation fee of $10 per night would be charged for Cathedral Pines Backcountry Campsite, Mckinley Horse Trail Campground, Buttercup Backcountry Campsites, Bear Island Backcountry Campsites, River Dune Backcountry Campsite, Meadow Springs Backcountry Campsites, and Luzerne Horse Trail Campgrounds. An expanded amenity recreation fee of $15 per night would be charged at Condon Lake Backcountry Campsites, Sulak Recreation Area, and Sawkaw Lake Campgrounds. An expanded amenity recreation fee of $40 per double site per night would be charged for Mack Lake Off-highway Vehicle, Kneff Lake, Gabions, and Jewell Lake Campgrounds. An expanded amenity recreation fee of $30 per double site per night would be charged for Horseshoe, Meadows Off-highway Vehicle, and Au Sable Look Campgrounds. An expanded amenity recreation fee of $60 per night for groups of up to 220 people would be charged for McKinley Horse Trail Group Campground, $60 per night for groups of up to 230 people would be charged for Luzerne Horse Trail Group Campground, and an expanded amenity recreation fee of $60 per night for groups of up to 200 people would be charged for the River Road Trail Group Campground. In addition, an expanded amenity recreation fee of $150 per night would be charged for rental of Sprinkler Lake Cabins.

A standard amenity recreation fee of $5 per day per vehicle would be charged at Lower Branch Bridge Carry-In Access. Additionally, a standard amenity recreation fee of $5 per day, $15 per week, and $30 per year per vehicle would be charged at East Bull Gap Off-Road Vehicle Trailhead, and Bull Gap Hill Climb Off-Road Vehicle Trailhead developed recreation sites. The Huron-Manistee National Forests Annual Day Use Pass and the America the Beautiful—the National Parks and Federal Recreational Lands Pass would be honored at these standard amenity recreation fee sites.

Expenditures from recreation fee revenues collected at the proposed recreation fee sites would enhance recreation opportunities, improve customer service, and address maintenance needs. Once public involvement is complete, the proposed recreation fee sites and proposed recreation fees will be reviewed by a Recreation Resource Advisory Committee prior to a final decision and implementation. Reservations for campgrounds and cabins could be made online at www.recreation.gov or by calling 877-444-6777. Reservations would cost $8.00 per reservation.

Dated: August 1, 2024.
Jacqueline Emanuel,
Associate Deputy Chief, National Forest System.

[FR Doc. 2024-17442 Filed 8-6-24; 8:45 am]

BILLING CODE 3411-15-P